DEPARTMENT OF EDUCATION

[CFDA No.: 84.326B]

Office of Special Education and Rehabilitative Services; Special Education—Technical Assistance and Dissemination To Improve Services and Results for Children With Disabilities

AGENCY: Department of Education.

ACTION: Notice inviting applications for new awards for fiscal year (FY) 2002.

SUMMARY: The Assistant Secretary for Special Education and Rehabilitative Services invites applications for FY 2002 under the Special Education—Technical Assistance and Dissemination to Improve Services and Results for Children with Disabilities. This program is authorized by the Individuals with Disabilities Education Act (IDEA), as amended. This notice provides closing dates, a priority, and other information regarding the transmittal of applications.

Waiver of Rulemaking

It is generally our practice to offer interested parties the opportunity to comment on proposed priorities. However, section 661(e)(2) of IDEA makes the rulemaking procedures in the Administrative Procedure Act (5 U.S.C. 553) inapplicable to the priority in this notice.

General Requirements

(a) The project funded under this notice must make positive efforts to employ and advance in employment qualified individuals with disabilities in project activities (see section 606 of IDEA).

(b) Applicants and grant recipients funded under this notice must involve individuals with disabilities or parents of individuals with disabilities in planning, implementing, and evaluating the projects (see section 661(f)(1)(A) of IDEA).

(c) The project funded under this priority must budget for a two-day Project Directors' meeting in Washington, DC during each year of the project.

(d) If the project maintains a Web site, it must include relevant information and documents in an accessible form.

Purpose of Program: The purpose of this program is to provide technical assistance and information—through such mechanisms as institutes, regional resource centers, clearinghouses, and programs that support States and local entities in building capacity—to (1) improve early intervention, educational, and transitional services and results for children with disabilities and their families; and (2) address systemic-change goals and priorities.

Eligible Applicants: State educational agencies, local educational agencies, institutions of higher education, other public agencies, nonprofit private organizations, for-profit organizations, outlying areas, freely associated States, and Indian tribes or tribal organizations.

Applications Available: August 9, 2002.

Deadline for Transmittal of Applications: September 9, 2002.

Intergovernmental Review: This program is subject to the requirements of Executive Order 12372 and the regulations in 34 CFR part 79. One of the objectives of the Executive order is to foster an intergovernmental partnership and a strengthened federalism. The Executive Order relies on processes developed by State and local governments for coordination and review of proposed Federal financial assistance.

This document provides early notification of our specific plans and actions for this program.

Deadline for Intergovernmental Review: September 19, 2002.

Estimated Available Funds: $700,000.

Maximum Awards: $700,000.

Estimated Number of Awards: Under this priority, the Secretary will make one award for a cooperative agreement.

Note: The Department is not bound by any estimates in this notice.

Project Period: The project funded in this notice is for a project period of up to 60 months.

Applicable Regulations: (a) The Education Department General Administrative Regulations (EDGAR) in 34 CFR parts 74, 75, 77, 79, 80, 81, 82, 85, 86, 97, 98, and 99; and (b) The selection criteria, chosen from the general selection criteria in 34 CFR 75.210. The specific selection criteria for this priority are included in the application package for the competition.

Note: The regulations in 34 CFR part 86 apply to institutions of higher education only.

Priority: Under sections 661(e) and 685 of IDEA and 34 CFR 75.105(c)(3), we give an absolute preference to applications that meet the following priority. We will fund under this competition only those applications that meet this priority:

Absolute Priority—Urban Inclusion Technical Assistance Center (84.326B)

Background: Compared with suburban and rural local educational agencies (LEAs), urban LEAs place disproportionately more children with disabilities, particularly children with severe disabilities, in segregated classrooms or in separate schools, where they are less likely to have access to and instruction in the general education curriculum. In urban LEAs, special education services are often not aligned with or part of comprehensive school improvement efforts because special education is viewed as a separate system or a placement.

In addition, in many schools special education is seen as the only viable option to provide support to students who are falling behind. In these cases, children who could benefit substantially from scientifically-based interventions in such areas as reading are unnecessarily referred to special education.

Priority: The purpose of this priority is to support a center to promote placing children with disabilities in general education classrooms by assisting urban schools and LEAs to implement practices that have been shown to be effective in providing expanded access to, and improving results in, the general education classroom. In conducting its activities, the Center must put particular emphasis on education in the general education curriculum.

The Center funded under this priority must do the following:

(a) Identify effective practices for promoting inclusive placement in general education classrooms. These practices must include both effective practices in educating children, including early identification of children with learning difficulties and pre-referral intervention strategies, and effective practices in assisting and encouraging schools and LEAs to adopt those practices. The Center must identify these practices through such means as the Department's “What Works” clearinghouse, and planned OSERS centers targeted on (1) disproportionate representation of culturally and linguistically diverse students in special education and (2) improving access to and participation in the general education curriculum for children in elementary and secondary schools.

(b) Conduct a range of activities using the practices identified in paragraph (a) that promote instruction and support services in general education classrooms. These activities must include:

(1) General dissemination activities such as maintenance of a website and presentations at conferences that provide information on effective practices to broad audiences; and

(2) Creating partnerships with a limited number of LEAs that have demonstrated the ability and willingness to adopt new practices to help them design, implement, and evaluate practices that will expand or improve education in inclusive general education classroom for students with disabilities, including students with severe disabilities. Through these partnerships, the Center must provide technical assistance, training, and other support to the LEAs.

(c) In promoting access and participation in general education classrooms, the Center must:

(1) Take advantage of new tools for improving results for students provided by the No Child Left Behind (NCLB) Act of 2002. These include:

(A) School accountability for all students including, specifically, students with disabilities;

(B) Curricula and accountability systems aligned with statewide accountability systems; and

(C) State academic achievement standards that address, at a minimum, reading and mathematics; and

(2) Address the need for on-going, high quality professional development to ensure that personnel have skills and knowledge based on the most current findings related to effective practice; and

(3) Include ways that families, communities, and schools can work together to improve results.

(d) Evaluate its activities based on clear, measurable goals that are clearly linked to results.

Fourth and Fifth Years of Project: In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) Evidence of the degree to which the project's activities have contributed to changed practice and improved student outcomes.

Page Limit: Part III of each application submitted under this notice, the application narrative, is where an applicant addresses the selection criteria that are used by reviewers in evaluating the application. You must limit Part III to the equivalent of no more than 70 pages, using the following standards:

• A “page” is 8.5″ x 11″ (on one side only) with one-inch margins (top, bottom, and sides).

• Double-space (no more than three lines per vertical inch) all text in the application narrative, including titles, headings, footnotes, quotations, and captions, as well as all text in charts, tables, figures, and graphs.

• Use a font that is either 12-point or larger or no smaller than 10 pitch (characters per inch).

The page limit does not apply to Part I—the cover sheet; Part II—the budget section, including the narrative budget justification; Part IV, the assurances and certifications; or the one-page abstract, the resumes, the bibliography or references, or the letters of support. However, you must include all of the application narrative in Part III.

We will reject without consideration or evaluation any application if —

• You apply these standards and exceed the page limit; or

• You apply other standards and exceed the equivalent of the page limit.

For Applications Contact: Education Publications Center (ED Pubs), PO Box 1398, Jessup, Maryland 20794-1398. Telephone (toll free): 1-877-4ED-Pubs (1-877-433-7827). FAX: 301-470-1244. If you use a telecommunications device for the deaf (TDD), you may call (toll free) 1-877-576-7734.

You may also contact Ed Pubs at its Web site: http://www.ed.gov/pubs/edpubs.html.

Or you may contact Ed Pubs at its e-mail address: edpubs@inet.ed.gov.

If you request an application from Ed Pubs, be sure to identify this competition as follows: CFDA No. 84.326B.

FOR FURTHER INFORMATION CONTACT: Grants and Contracts Services Team, U.S. Department of Education, 400 Maryland Avenue, SW., room 3317, Switzer Building, Washington, DC 20202-2550. Telephone: (202) 205-8207.

If you use a telecommunications device for the deaf (TDD), you may call the Federal Information Relay Service (FIRS) at 1-800-877-8339.

Individuals with disabilities may obtain this document in an alternative format (e.g., Braille, large print, audiotape, or computer diskette) on request to the Grants and Contracts Services Team under FOR FURTHER INFORMATION CONTACT.

However, the Department is not able to reproduce in an alternative format the standard forms included in the application package.

Electronic Access to This Document

You may view this document, as well as all other Department of Education documents published in the Federal Register, in text or Adobe Portable Document Format (PDF) on the internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1485.

Dated: August 6, 2002.
Loretta Petty Chittum,
Acting Assistant Secretary for Special Education and Rehabilitative Services.

[FR Doc. 02-20255 Filed 8-8-02; 8:45 am]

BILLING CODE 4000-01-P